POSTAL SERVICE

Board of Governors Sunshine Act Meeting

Board Votes To Close April 14, 2008, Meeting

By telephone vote on April 14, 2008, the Board of Governors of the United States Postal Service voted unanimously to close to public observation its meeting held via teleconference. The Board determined that prior public notice was not possible.

Items Considered

1. Strategic Planning.

2. Personnel Matters and Compensation Issues.

General Counsel Certification

The General Counsel of the United States Postal Service has certified that the meeting was properly closed under the Government in the Sunshine Act.

Contact Person for More Information: Requests for information about the meeting should be addressed to the Deputy General Counsel, William R. Gilligan, at (202) 268-2952.

William R. Gilligan,
Deputy General Counsel.

[FR Doc. E8-8865 Filed 4-24-08; 8:45 am]

BILLING CODE 7710-12-M